DEPARTMENT OF ENERGY

Federal Energy Regulatory Commission

[Docket No. AD05-14-000]

State of the Natural Gas Infrastructure Conference; Notice of Public Conference

September 9, 2005.

Take notice that a public conference will be held on October 12, 2005, from approximately 9 a.m. until 3 p.m. Eastern Time, in the Commission Meeting Room on the second floor of the offices of the Federal Energy Regulatory Commission, 888 First Street, NE., Washington, DC. All interested persons may attend; there is no fee or registration. Commissioners are expected to participate.

The conference will focus on issues related to the development of natural gas pipeline infrastructure. Discussion will include changes in the industry that impact infrastructure development, regulatory impediments, financial risks involved, and suggestions for regulatory improvements. The Commission also is interested in hearing about the state of Gulf Coast facilities following Hurricane Katrina, and what steps may need to be taken to restore or upgrade pipeline infrastructure in that region.

The Commission is now soliciting nominations for speakers at the conference. Persons wishing to nominate themselves as speakers should do so using this electronic link: https://www.ferc.gov/whats-new/registration/speaker-1012-form.asp. Such nominations must be made by close of business, Friday, September 16, 2005, to enable staff to develop an agenda.

Transcripts of the conference will be immediately available from Ace Reporting Company (202-347-3700 or 1-800-336-6646) for a fee. They will be available for the public on the Commission's eLibrary system seven calendar days after FERC receives the transcript. Additionally, Capitol Connection offers the opportunity for remote listening and viewing of the conference. It is available for a fee, live over the Internet, by phone, or via satellite. Persons interested in receiving the broadcast, or who need information on making arrangements should contact David Reininger or Julia Morelli at the Capitol Connection (703-993-3100) as soon as possible or visit the Capitol Connection Web site at http://www.capitolconnection.gmu.edu and click on “FERC.”

FERC conferences are accessible under section 508 of the Rehabilitation Act of 1973. For accessibility accommodations please send an e-mail to accessibility@ferc.gov or call toll free 866-208-3372 (voice) or 202-208-1659 (TTY), or send a FAX to 202-208-2106 with the required accommodations.

Additional details and the agenda for this conference will be included in a subsequent notice.

For more information about the conference, please contact John Schnagl at (202) 502-8756 (john.schnagl@ferc.gov) or Sarah McKinley at (202) 502-8004 (sarah.mckinley@ferc.gov).

Magalie R. Salas,
Secretary.

[FR Doc. E5-5062 Filed 9-15-05; 8:45 am]

BILLING CODE 6717-01-P